Title 3—

The President

Proclamation 7619 of November 1, 2002

National Adoption Month, 2002

By the President of the United States of America

A Proclamation

Every year, thousands of American families are blessed by adoption. Whether through domestic or international adoption or through the adoption of children from foster care, the love of compassionate families embraces children of all ages and from every background. During National Adoption Month, we recognize the heartfelt commitment of these good citizens, and we renew our pledge to make adoption a more accessible and positive path for American families.

Children thrive in loving families where they are nurtured, comforted, and protected. We are making important progress in placing children in foster care with adoptive families; and the overall number of children being adopted continues to rise. In the past 5 years, adoptions have increased dramatically; and thus far in 2002, tens of thousands of children have already been adopted.

Twenty-three States and the Commonwealth of Puerto Rico received adoption incentive awards in FY 2001 for increasing the number of children they placed from foster care into permanent adoptive homes. These recipients have reinvested their bonuses to help improve their respective adoption and child welfare programs. Americans also continue to welcome children from other countries into their homes through international adoptions. Last year, families in the United States adopted over 19,000 children from around the world.

Despite the progress we have made in increasing our adoption rate, we still have much work to do. More than 130,000 children, ranging from toddlers to teenagers, still remain in foster care awaiting adoption. While foster parents offer temporary essential care, the children for whom they care need the stability of a permanent family. It is often challenging to find families for older children and those children who have special needs. Yet they deserve a future with a nurturing family.

To help States promote adoption and support families who adopt, I signed a tax relief bill last year that permanently eases the financial burden on families that adopt children. And in January 2002, I signed into law a bill to extend and expand the Promoting Safe and Stable Families Program. Through this legislation, we are strengthening families by promoting adoption, offering post-adoptive services to families that adopt, and providing education and training vouchers to older adopted children and foster youth.

In July 2002, my Administration launched the AdoptUSKids national campaign to increase awareness about adoption and its role in helping all children reach their full potential. We have also created the first Federal adoption photo-listing web site devoted to children awaiting adoption and families who adopt, www.AdoptUSKids.org. During its first year, the web site will feature pictures and profiles of more than 6,500 children awaiting adoption, as well as a database of approved adoptive families. This unique web site will help to connect children from across the country with loving adoptive families, and it will also serve as a great resource for all adoptive families.

On November 23, dozens of communities will gather in courtrooms across the country to celebrate National Adoption Day. On this momentous day, thousands of adoptions will be finalized and celebrated. These efforts demonstrate our Nation's dedication to ensuring that every child can thrive in a secure, loving, and stable home.

Through adoption, Americans can forever change not only a child's life but also their own. By providing children in need with the opportunity to grow and succeed through adoption, we can help them become confident, compassionate, and successful members of society.

NOW, THEREFORE, I, GEORGE W. BUSH, President of the United States of America, by virtue of the authority vested in me by the Constitution and laws of the United States, do hereby proclaim November 2002 as National Adoption Month. I call on all Americans to observe this month with appropriate programs and activities to honor adoptive families, and to participate in efforts to find permanent homes for waiting children.

IN WITNESS WHEREOF, I have hereunto set my hand this first day of November, in the year of our Lord two thousand two, and of the Independence of the United States of America the two hundred and twenty-seventh.

B

[FR Doc. 02-28432

Filed 11-5-02-8:45 am]

Billing code 3195-01-P